COMMITTEE FOR PURCHASE FROM PEOPLE WHO ARE BLIND OR SEVERELY DISABLED

Correction of Notice of Additions & Deletion

In the notice appearing on page 57590, FR Doc E8-23317, Procurement List Additions & Deletions, on October 3, 2008, the Committee published the following product and NSN (Bag, Sand, Polypropylene, 26″ x 14″, 8105-01-467-0402).

This notice corrects the size for the above mentioned product and NSN to Bag, Sand, Polypropylene, 20″ x 14″, 8105-01-467-0402.

Barry S. Lineback,
Acting Director, Program Operations.

[FR Doc. E8-24147 Filed 10-9-08; 8:45 am]

BILLING CODE 6353-01-P